DEPARTMENT OF ENERGY

Federal Energy Regulatory Commission

[Project No.: 14568-003]

CB Energy Park, LLC; Notice of Intent To File License Application, Filing of Pre-Application Document, and Approving Use of the Traditional Licensing Process

a. Type of Filing: Notice of Intent to File License Application and Request to Use the Traditional Licensing Process.

b. Project No.: 14568-003.

c. Date Filed: May 31, 2017.

d. Submitted By: CB Energy Park, LLC.

e. Name of Project: Coffin Butte Pumped Storage Project.

f. Location: Near Two Dot in Wheatland and Meagher Counties, Montana. No federal lands are occupied by the project works or located within the project boundary.

g. Filed Pursuant to: 18 CFR 5.3 of the Commission's regulations.

h. Potential Applicant Contact: Carl Borgquist, CB Energy Park, LLC, 209 South Wilson Avenue, P.O. Box 309, Bozeman, MT 59771, phone: (406) 585-3006.

i. FERC Contact: Ryan Hansen at (202) 502-8074; or email at ryan.hansen@ferc.gov.

j. CB Energy Park, LLC filed its request to use the Traditional Licensing Process on May 31, 2017. CB Energy Park, LLC provided public notice of its request on June 9, 2017. In a letter dated July 5, 2017, the Director of the Division of Hydropower Licensing approved CB Energy Park, LLC's request to use the Traditional Licensing Process.

k. With this notice, we are initiating informal consultation with the U.S. Fish and Wildlife Service under section 7 of the Endangered Species Act and the joint agency regulations thereunder at 50 CFR part 402. We are also initiating consultation with the Montana State Historic Preservation Officer, as required by section 106, National Historic Preservation Act, and the implementing regulations of the Advisory Council on Historic Preservation at 36 CFR 800.2.

l. With this notice, we are designating CB Energy Park, LLC as the Commission's non-federal representative for carrying out informal consultation pursuant to section 7 of the Endangered Species Act and consultation pursuant to section 106 of the National Historic Preservation Act.

m. CB Energy Park, LLC filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

o. Register online at http://www.ferc.gov/docs-filing/esubscription.asp to be notified via email of new filing and issuances related to this or other pending projects. For assistance, contact FERC Online Support.

Dated: July 5, 2017.
Kimberly D. Bose,
Secretary.

[FR Doc. 2017-14480 Filed 7-10-17; 8:45 am]

BILLING CODE 6717-01-P